DEPARTMENT OF THE INTERIOR

Bureau of Land Management

[19X.LLMTC03200.L51100000.GA0000. LVEME19CE830 MO #4500133387]

Notice of Availability of the Environmental Assessment for Coyote Creek Mining Company's Lease-by-Application NDM 110277, Mercer County, ND, Notice of Public Hearing, and Request for Comment on Environmental Assessment, Maximum Economic Recovery, and Fair Market Value

AGENCY: Bureau of Land Management, Interior.

ACTION: Notice of availability and public hearing.

SUMMARY: The Bureau of Land Management (BLM), North Dakota Field Office (NDFO) is publishing this notice to announce that an Environmental Assessment (EA) for Coyote Creek Mining Company's (CCMC) Federal Coal Lease-by-Application (LBA), serial number NDM 110277, is available for public review and comment. The BLM is also announcing that it will hold a public hearing by teleconference to receive comments on the EA, Fair Market Value (FMV), and Maximum Economic Recovery (MER) of the coal resources contained in the proposed CCMC LBA lease tracts. The Office of Surface Mining Reclamation and Enforcement (OSMRE) is also accepting comments on the National Environmental Policy Act (NEPA) analysis regarding the potential Federal mine plan decision.

DATES: The public hearing by teleconference will be held from 3:00 p.m. to 5:00 p.m. (Central time zone) on May 20, 2020. Written or electronic comments should be submitted to the NDFO or postmarked no later than May 29, 2020.

ADDRESSES: A public hearing by teleconference will be held by calling 1-800-369-1853 and entering passcode 3787572 when prompted. The teleconference will convene on May 20, 2020, at 3:00 p.m. (Central time zone) and will conclude at 5:00 p.m. (Central time zone). Please note that any details and updates made to any aspect of the hearing will be posted on the BLM ePlanning web page (https://go.usa.gov/xVyfF). While the BLM expects the hearing to go forward as set forth above, please monitor the ePlanning website or contact the person listed in the FOR FURTHER INFORMATION CONTACT section to determine if there are any updates. In addition, copies of the EA are available on ePlanning, at the NDFO, and may be requested by mail, email or phone using the contacts provided in the FOR FURTHER INFORMATION CONTACT section. You may submit comments related to the CCMC EA, FMV and MER by any of the following methods:

• Email: BLM_MT_North_Dakota_CoyoteCreekLBA@blm.gov;

• Mail: Bureau of Land Management North Dakota Field Office, Attention: Joel Hartmann, Project Lead, 99 23rd Avenue West, Suite A, Dickinson, ND 58601.

FOR FURTHER INFORMATION CONTACT: Joel Hartmann, Geologist; telephone: 406-896-5159; or at the address and email provided in the ADDRESSES section. Persons who use a telecommunications device for the deaf (TDD) may call the Federal Relay Service at 1-800-877-8339 to contact Mr. Hartmann during normal business hours. The Service is available 24 hours a day, 7 days a week, to leave a message or question for Mr. Hartmann. You will receive a reply during normal business hours. If you have questions regarding the potential Federal mine plan decision, please contact Michelle Fishburne at telephone: 202-208-2982, email: mfishburne@osmre.gov. If you have questions regarding attending the hearing by teleconference, please contact Al Nash at telephone: 406-896-5260; email: knash@blm.gov.

SUPPLEMENTARY INFORMATION: On December 13, 2017, CCMC submitted an application to lease two 160-acre Federal coal lease tracts comprising 320 acres, located in Mercer County, North Dakota. As project co-leads, the BLM and OSMRE developed the issue-based EA, which analyzed and disclosed potential direct, indirect, and cumulative impacts of leasing and subsequent mining of the proposed lease tracts. The tracts are located at the Coyote Creek Mine and contain about 5.23 million tons of in-place Federal coal resources. The tracts underlie private surface and are described as follows:

Fifth Principal Meridian, North Dakota

T. 143 N., R. 89 W.,

Sec. 24, SW1/4;

Sec. 26, SE1/4.

The areas described aggregate 320.00 acres.

Through this notice, the BLM is inviting the public to provide comments regarding the potential environmental impacts related to the proposed action, and to submit comments on the FMV and the MER for the proposed LBA tract. The BLM usually holds a public hearing in the local community where the tracts are located. However, due to the COVID-19 National Emergency and the uncertainty of Federal, State, and local social distancing guidelines, the BLM and OSRME are holding the public hearing by teleconference to ensure staff and interested community members are able to participate safely. A stenographer will record the presentation and comments received during the teleconference. All public comments, whether written or oral, will receive consideration prior to the BLM's decision regarding the leasing of the Federal coal contained in the tracts.

Public comments on the EA should address the potential environmental impacts of the proposed action. Public comments on the FMV and MER for the proposed lease tracts may address, but do not necessarily have to be limited to, the following:

1. The quantity and quality of the Federal coal resource;

2. The mining method to be employed to obtain the MER of the coal resource, including the name of the coal bed(s) to be mined, timing and rate of production, restriction of mining, and the inclusion of the lease tracts into the existing mining operation;

3. The price that the mined coal would bring when sold;

4. Costs, including mining and reclamation, and the anticipated timing of production;

5. The percentage rate at which anticipated income streams should be discounted, either with inflation, or in the absence of inflation, in which case the anticipated rate of inflation should be given;

6. Depreciation, depletion, amortization and other tax accounting factors;

7. The value of privately held mineral or surface estate in the Coyote Creek Mine area.

Any proprietary information or data that you submit to the BLM must be marked as confidential to ensure the data will be treated in accordance with the applicable laws and regulations governing the confidentiality of such information or data. A copy of the comments submitted by the public on the EA, FMV, and MER for the tracts, except those portions identified as proprietary and that meet one of the exemptions in the Freedom of Information Act, will be available for public inspection at the BLM, NDFO, 99 23rd Avenue West, Suite A, Dickinson, North Dakota, during regular business hours (8:00 a.m.-4:30 p.m. Central time zone), Monday through Friday.

Before including your address, phone number, email address, or other personal identifying information in your comment, you should be aware that your entire comment—including your personal identifying information—may be made publicly available at any time. While you can ask us in your comment to withhold your personal identifying information from public review, the BLM cannot guarantee that we will be able to do so.

(Authority: 40 CFR 1506.6, 43 CFR 3422.1, 3425.3 and 3425.4)

John J. Mehlhoff,
BLM Montana/Dakotas State Director, Billings, Montana.

[FR Doc. 2020-09613 Filed 5-5-20; 8:45 am]

BILLING CODE 4310-DN-P